DEPARTMENT OF ENERGY

Federal Energy Regulatory Commission

Combined Notice of Filings

Take notice that the Commission has received the following Natural Gas Pipeline Rate and Refund Report filings:

Filings Instituting Proceedings

Docket Numbers: RP13-565-000.

Applicants: CenterPoint Energy Gas Transmission Comp.

Description: CEGT LLC-2013 Negotiated Rate Filing—February to be effective 2/15/2013.

Filed Date: 2/14/13.

Accession Number: 20130214-5024.

Comments Due: 5 p.m. ET 2/26/13.

Docket Numbers: RP13-566-000.

Applicants: Natural Gas Pipeline Company of America.

Description: Tenaska Amended Negotiated Filing to be effective 2/14/2013.

Filed Date: 2/14/13.

Accession Number: 20130214-5028.

Comments Due: 5 p.m. ET 2/26/13.

Docket Numbers: RP13-567-000.

Applicants: Natural Gas Pipeline Company of America.

Description: Natural Gas Pipeline Company of America LLC submits tariff filing per 154.204: Tenaska Amendment to be effective 2/14/2013.

Filed Date: 2/14/13.

Accession Number: 20130214-5029.

Comments Due: 5 p.m. ET 2/26/13.

Docket Numbers: RP13-568-000.

Applicants: Gulf South Pipeline Company, LP.

Description: Gulf South Pipeline Company, LP submits tariff filing per 154.204: Devon 34694-45 Amendment to Neg Rate Agmt filing to be effective 2/14/2013

Filed Date: 02/14/2013.

Accession Number: 20130214-5030.

Comments Due: 5 p.m. ET 2/26/13.

Docket Numbers: RP13-569-000.

Applicants: Texas Gas Transmission, LLC.

Description: NextEra 32738 Negotiated Rate Agmt filing to be effective 2/15/2013.

Filed Date: 2/15/13.

Accession Number: 20130215-5155.

Comments Due: 5 p.m. ET 2/27/13.

Docket Numbers: RP13-570-000.

Applicants: Columbia Gulf Transmission Company.

Description: Non-Conforming Remediation 2.15.13 to be effective 3/18/2013.

Filed Date: 2/15/13.

Accession Number: 20130215-5158.

Comments Due: 5 p.m. ET 2/27/13.

Docket Numbers: RP13-571-000.

Applicants: Columbia Gas Transmission, LLC.

Description: Non-Conforming Agreements to be effective 3/15/2013.

Filed Date: 2/15/13.

Accession Number: 20130215-5161.

Comments Due: 5 p.m. ET 2/27/13.

Docket Numbers: RP13-572-000.

Applicants: Iroquois Gas Transmission System, L.P.

Description: 02/18/13 Negotiated Rates—BP Energy Company (HUB)—1410-89 to be effective 2/17/2013.

Filed Date: 2/19/13.

Accession Number: 20130219-5005.

Comments Due: 5 p.m. ET 3/4/13.

Docket Numbers: RP13-573-000.

Applicants: Iroquois Gas Transmission System, L.P.

Description: 02/19/13 Negotiated Rates—Occidental Energy Mrktg—(RTS)—6060-08 & 09 to be effective 3/1/2013.

Filed Date: 2/19/13.

Accession Number: 20130219-5066.

Comments Due: 5 p.m. ET 3/4/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-106-002.

Applicants: Young Gas Storage Company, Ltd.

Description: Young NAESB Compliance Amendment Filing to be effective 12/1/2012.

Filed Date: 2/13/13.

Accession Number: 20130213-5128.

Comments Due: 5 p.m. ET 2/25/13.

Docket Numbers: RP13-116-002.

Applicants: MIGC LLC.

Description: 2nd Revised NAESB v2.0 Compliance Filing to be effective 12/1/2012.

Filed Date: 2/13/13.

Accession Number: 20130213-5000.

Comments Due: 5 p.m. ET 2/25/13.

Docket Numbers: RP13-423-001.

Applicants: Rockies Express Pipeline LLC.

Description: Reservation Charge Credit Compliance to be effective 2/1/2013.

Filed Date: 2/15/13.

Accession Number: 20130215-5160.

Comments Due: 5 p.m. ET 2/27/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 19, 2013.
Nathaniel J. Davis, Sr.,
Deputy Secretary.

[FR Doc. 2013-04315 Filed 2-25-13; 8:45 am]

BILLING CODE 6717-01-P